DEPARTMENT OF TRANSPORTATION

Federal Aviation Administration

14 CFR Part 39

[Docket No. 2003-NM-183-AD; Amendment 39-13660; AD 2004-12-01]

RIN 2120-AA64

Airworthiness Directives; Airbus Model A330-202, -203, -223, and -243 Airplanes, and A330-300 Series Airplanes

AGENCY: Federal Aviation Administration, DOT.

ACTION: Final rule.

SUMMARY: This amendment adopts a new airworthiness directive (AD), applicable to certain Airbus Model A330-202, -203, -223, and -243 airplanes, and A330-300 series airplanes, that requires modification of the center box junction and upper sections of the center fuselage to reinforce the frame base junction, and related corrective action. This action is necessary to prevent fatigue cracking, which could result in reduced structural integrity of the fuselage. This action is intended to address the identified unsafe condition.

DATES: Effective July 14, 2004.

The incorporation by reference of certain publications listed in the regulations is approved by the Director of the Federal Register as of July 14, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to certain Airbus Model A330-202, -203, -223, and -243 airplanes, and A330-300 series airplanes, was published in the Federal Register on March 11, 2004 (69 FR 11552). That action proposed to require modification of the center box junction and upper sections of the center fuselage to reinforce the frame base junction, and related corrective action.

Comments

Interested persons have been afforded an opportunity to participate in the making of this amendment. Due consideration has been given to the comments received.

Requests To Change Compliance Time

One commenter asks that the compliance times specified in paragraphs (a)(1) and (a)(2) of the proposed AD be changed to specify, “since the first flight of the airplane,” as mandated in the airworthiness directive issued by the Direction Générale de l'Aviation Civile (DGAC), which is the airworthiness authority for France. The commenter states that the first flight of the airplane should be the starting point to record and count flight hours and flight cycles, as recorded in the logbooks for the airframe and engines. The commenter adds that it should be the first flight after delivery of the airplane to the first operator.

The FAA does not agree. The justification for the difference between the proposed AD and the DGACs airworthiness directive, as specified in the “Differences” section of the proposed AD, is the following: “This decision is based on our determination that “since the first flight of the airplane” may be interpreted differently by different operators. We find that our proposed terminology is generally understood within the industry and records will always exist that establish these dates with certainty. In addition, we have determined that a 6-month grace period will ensure an acceptable level of safety and is an appropriate interval of time wherein the modification can be accomplished during scheduled maintenance intervals for the majority of affected operators.” We have not changed the AD in this regard.

The same commenter asks that the effective date for the compliance time specified in paragraphs (a)(1)(ii) and (a)(2)(ii) of this proposed AD be changed to match the effective date of the airworthiness directive issued by the DGAC. The DGAC airworthiness directive was effective on November 9, 2002.

We do not agree. We do not express compliance times in terms of calendar dates unless engineering analysis establishes a direct relationship between the date and either the compliance threshold or the grace period. Additionally, in consideration of the average utilization rate by the affected U.S. operators, and the practical aspects of an orderly modification of the U.S. fleet during regular maintenance periods, we have determined that a grace period of 6 months after the effective date of this AD, is appropriate.

Another commenter asks that the 6-month grace period specified in paragraph (a)(2)(ii) of the proposed AD, for airplanes beyond the compliance threshold specified in paragraph (a)(2)(i) of the proposed AD, be extended to 18 months. The commenter states that it anticipates incorporation of the subject modification during upcoming C-checks, and that an 18-month compliance time would align with those maintenance checks. The commenter adds that if an operator has already accumulated more than 11,400 total flight cycles or 33,100 total flight hours on the airplane, the operator may be forced to do the subject modification outside of a heavy maintenance environment, which would extend the out-of-service time. The commenter notes that extending the grace period to 18 months would allow for accomplishment of the modification without specially scheduled downtime outside of scheduled maintenance.

We do not agree. In developing an appropriate compliance time for this action, we considered the safety implications, operators' normal maintenance schedules, and the compliance time recommended by the airplane manufacturer for the timely accomplishment of the required actions. In consideration of these items, we have determined that a grace period of 6 months will ensure an acceptable level of safety and is an appropriate interval of time wherein the required actions can be accomplished during scheduled maintenance intervals for the majority of affected operators. However, according to the provisions of paragraph (d) of this AD, we may approve requests to adjust the compliance time if the request includes data that justify that a different compliance time would provide an acceptable level of safety. We have not changed the AD in this regard.

Explanation of Change to Final Rule

The number of affected airplanes has changed since issuance of the proposed AD; therefore, we have changed the Cost Impact section in this final rule to reflect the correct number of airplanes.

Conclusion

We have carefully reviewed the available data and have determined that air safety and the public interest require adopting the AD with the change previously described. We have determined that this change will not significantly increase the economic burden on any operator or increase the scope of the AD.

Cost Impact

We estimate that 16 airplanes of U.S. registry will be affected by this AD, that it will take about 67 work hours per airplane to do the modification, and that the average labor rate is $65 per work hour. Required parts will cost about $1,420 per airplane. Based on these figures, the cost impact of the modification required by this AD on U.S. operators is estimated to be $92,400, or $5,775 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-01 Airbus: Amendment 39-13660. Docket 2003-NM-183-AD.

Applicability: A330-202, -203, -223, and -243 airplanes, and A330-300 series airplanes; certificated in any category; on which Airbus Modification 49404 has not been done.

Compliance: Required as indicated, unless accomplished previously.

To prevent fatigue cracking, which could result in reduced structural integrity of the fuselage, accomplish the following:

Modification

(a) Modify the center box junction and upper bent sections of the center fuselage, between frame (FR) 40.3 and FR 45 at stringers 26 through 29, on the left and right sides of the airplane, by doing all the actions per the Accomplishment Instructions of Airbus Service Bulletin A330-53-3126, Revision 01, dated March 19, 2003. Do the modification at the times specified in paragraphs (a)(1) and (a)(2) of this AD.

(1) For Model A330-301, -322, -321, -341, and -342 airplanes: Do the modification at the later of the times specified in paragraphs (a)(1)(i) and (a)(1)(ii) of this AD.

(i) Before the accumulation of 13,500 total flight cycles or 39,200 total flight hours since the date of issuance of the original Airworthiness Certificate or the date of issuance of the original Export Certificate of Airworthiness, whichever is first.

(ii) Within 6 months after the effective date of this AD.

(2) For Model A330-202, -203, -223, -243, -323, and -343 airplanes: Do the modification at the later of the times specified in paragraphs (a)(2)(i) and (a)(2)(ii) of this AD.

(i) Before the accumulation of 11,400 total flight cycles or 33,100 total flight hours since the date of issuance of the original Airworthiness Certificate or the date of issuance of the original Export Certificate of Airworthiness, whichever is first.

(ii) Within 6 months after the effective date of this AD.

Previously Accomplished Actions

(b) Accomplishment of the modification per Airbus Service Bulletin A330-53-3126, dated October 18, 2002, is considered acceptable for compliance with the modification required by paragraph (a) this AD.

Repair

(c) If any crack is found during accomplishment of the modification required by paragraph (a) of this AD, and the service bulletin recommends contacting Airbus for appropriate action: Before further flight, repair per a method approved by the Manager, International Branch, ANM-116, FAA, Transport Airplane Directorate; or the Direction Générale de l'Aviation Civile (or its delegated agent).

Alternative Methods of Compliance

(d) In accordance with 14 CFR 39.19, the Manager, International Branch, ANM-116, is authorized to approve alternative methods of compliance for this AD.

Incorporation by Reference

(e) Unless otherwise provided in this AD, the actions shall be done in accordance with Airbus Service Bulletin A330-53-3126, Revision 01, dated March 19, 2003. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 1: The subject of this AD is addressed in French airworthiness directive 2002-528(B), dated October 30, 2002.

Effective Date

(f) This amendment becomes effective on July 14, 2004.

Issued in Renton, Washington, on May 28, 2004.
Kevin M. Mullin,
Acting Manager, Transport Airplane Directorate, Aircraft Certification Service.

[FR Doc. 04-12822 Filed 6-8-04; 8:45 am]

BILLING CODE 4910-13-P